DEPARTMENT OF THE TREASURY

Internal Revenue Service

26 CFR Parts 1, 20, 25, 26, 31, 40, 41, 44, 53, 54, 55, 56, 156, 157, and 301

[REG-129243-07]

RIN 1545-BG83

Tax Return Preparer Penalties Under Sections 6694 and 6695; Correction

AGENCY: Internal Revenue Service (IRS), Treasury.

ACTION: Correction to notice of proposed rulemaking.

SUMMARY: This document contains corrections to a notice of proposed rulemaking (REG-129243-07) that was published in the Federal Register on Tuesday, June 17, 2008 (73 FR 34560) implementing amendments to the tax return preparer penalties under sections 6694 and 6695 of the Internal Revenue Code and related provisions under sections 6060, 6107, 6109, 6696 and 7701(a)(36) reflecting amendments to the Code made by section 8246 of the Small Business and Work Opportunity Tax Act of 2007. The proposed regulations affect tax return preparers and provide guidance regarding the amended provisions.

FOR FURTHER INFORMATION CONTACT: Michael E. Hara, (202) 622-4910 and Matthew S. Cooper, (202) 622-4940 (not toll-free numbers).

SUPPLEMENTARY INFORMATION:

Background

The correction notice that is the subject of this document is under sections 6107, 6694, 6696, and 7701 of the Internal Revenue Code.

Need for Correction

As published, the notice of proposed rulemaking (REG-129243-07) contains errors that may prove to be misleading and are in need of clarification.

Correction of Publication

Accordingly, the publication of the notice of proposed rulemaking (REG-129243-07), which was the subject of FR Doc. E8-12898, is corrected as follows:

1. On page 34563, column 2, in the preamble, under the paragraph heading “Furnishing of Copy of the Tax Return”, first paragraph of the column, line 2, the language “Single Filers and Joint Filers With No” is corrected to read “Single and Joint Filers With No”.

2. On page 34567, column 1, in the preamble, under the paragraph heading “Definition of Tax Return Preparer”, first paragraph of the column, line 3, the language “under proposed § 301.7701-15(b)(2) and” is corrected to read “under proposed §§ 301.7701-15(b)(2) and”.

§ 1.6694-1 [Corrected]

3. On page 34572, column 1, § 1.6694-1(e)(2), line 6, the language “would be sustained on its merits and” is corrected to read “be sustained on its merits and”.

§ 26.6694-1 [Corrected]

4. On page 34583, column 3, § 26.6694-1(a), line 5, the language “see § 1.66994-1 of this chapter.” is corrected to read “see § 1.6694-1 of this chapter.”.

§ 41.6107-1 [Corrected]

5. On page 34586, column 3, § 41.6107-1(a), line 3, the language “or claim for refund of excise tax section” is corrected to read “or claim for refund of excise tax under section”.

§ 156.6107-1 [Corrected]

6. On page 34593, column 1, § 156.6107-1(a), line 3, the language “or claim for refund of tax under Section” is corrected to read “or claim for refund of tax under section”.

LaNita Van Dyke,
Chief, Publications and Regulations Branch, Legal Processing Division, Associate Chief Counsel, (Procedure and Administration).

[FR Doc. E8-16176 Filed 7-18-08; 8:45 am]

BILLING CODE 4830-01-P